DEPARTMENT OF AGRICULTURE

Forest Service

Newspapers Used for Publication of Legal Notices by the Pacific Northwest Region; Oregon, Washington, and Parts of California

AGENCY: Forest Service, Agriculture (USDA).

ACTION: Notice.

SUMMARY: This notice lists the newspapers that will be used by the Ranger Districts, Forests and Regional Office of the Pacific Northwest Region to publish legal notices required under Agency regulations. The intended effect of this action is to inform interested members of the public which newspapers the Forest Service will use to publish notices of proposed actions and notices of decision. This will provide the public with constructive notice of Forest Service proposals and decisions, provide information on the procedures to comment, object, or appeal, and establish the date that the Forest Service will use to determine if comments, appeals, or objection were timely.

DATES: Publication of legal notices in the listed newspapers begins on the date of this publication in the Federal Register. This list of newspapers will remain in effect until a new list is published in the Federal Register.

FOR FURTHER INFORMATION CONTACT: Sue Dixon, Regional Environmental Coordinator, Pacific Northwest Region, 1220 Southwest Third Avenue, Portland, OR 97204 and by email at Susan.Dixon@usda.gov or by phone at 503-808-2276.

SUPPLEMENTARY INFORMATION: The administrative procedures at 36 CFR 218 and 219 require the Forest Service to publish notices in a newspaper of general circulation. The content of the notices is specified in 36 CFR 218 and 219. In general, the notices will identify: the decision or project by title or subject matter; the name and title of the official making the decision; how to obtain additional information; and where and how to file comments or appeals/objection. The date the notice is published will be used to establish the official date for the beginning of the comment, appeal, or objection period.

Pacific Northwest Regional Office

Regional Forester

Notices for Comment and Decisions and Objections affecting Oregon Forests: “The Oregonian”, Portland, Oregon, for National Forest System lands in the State of Oregon for any projects of Region-wide impact or for any projects affecting more than one National Forest or National Grassland in Oregon.

Notices for Comment and Decisions and Objections affecting Washington Forests: “The Seattle Times”, Seattle, Washington, for National Forest System lands in the State of Washington for any projects of Region-wide impact or for any projects affecting more than one National Forest or National Grassland in Washington.

Columbia River Gorge National Scenic Area

Notices for Comment and Decisions and Objections by the Area Manager/Forest Supervisor are published in: “Columbia Gorge News”, Hood River, Oregon.

Oregon National Forests and Grassland

Deschutes National Forest

Notices for Comments, Decisions, and Objections by Forest Supervisor, Bend/Fort Rock District Ranger, Crescent District Ranger, Redmond Air Center Manager, and Sisters District Ranger are published in: “The Bulletin”, Bend, Oregon.

Fremont-Winema National Forests

Notices for Comments, Decisions, and Objections by Forest Supervisor, Bly District Ranger, Lakeview District Ranger, Paisley District Ranger, Silver Lake District Ranger, Chemult District Ranger, and Chiloquin District Ranger, Klamath District Ranger are published in: “Herald and News”, Klamath Falls, Oregon.

Malheur National Forest

Notices for Comments, Decisions, and Objections by Forest Supervisor, Blue Mountain District Ranger, and Prairie City District Ranger are published in: “Blue Mountain Eagle”, John Day, Oregon.

Notices for Comments, Decisions, and Objections by Emigrant Creek District Ranger are published in: “Burns Times Herald”, Burns, Oregon.

Mt. Hood National Forest

Notices for Comments, Decisions, and Objections by Forest Supervisor, Clackamas River District Ranger, Zigzag District Ranger, Hood River District Ranger, and Barlow District Ranger are published in: “The Oregonian”, Portland, Oregon.

Ochoco National Forest and Crooked River National Grassland

Notices for Comments, Decisions, and Objections by Forest Supervisor, Crooked River National Grassland Area Manager, Lookout Mountain District Ranger, and Paulina District Ranger are published in: “The Bulletin”, Bend, Oregon.

Rogue River-Siskiyou National Forests

Notices for Comments, Decisions, and Objections by Forest Supervisor, High Cascades District Ranger, J. Herbert Stone Nursery Manager, Siskiyou Mountains District Ranger, and Wild Rivers District Ranger are published in: “Grants Pass Daily Courier”, Grants Pass, Oregon.

Notices for Comments, Decisions, and Objections by Gold Beach District Ranger are published in: “Curry County Reporter”, Gold Beach, Oregon.

Notices for Comments, Decisions, and Objections by Powers District Ranger are published in: “The World”, Coos Bay, Oregon.

Siuslaw National Forest

Notices for Comments, Decisions, and Objections by Forest Supervisor are published in: “Corvallis Gazette-Times”, Corvallis, Oregon.

Notices for Comments, Decisions, and Objections by Central Coast Ranger—Oregon Dunes National Recreation Area District Ranger are published in: “The Register-Guard”, Eugene, Oregon.

Notices for Comments, Decisions, and Objections by Hebo District Ranger are published in: “Tillamook Headlight Herald”, Tillamook, Oregon.

Umatilla National Forest

Notices for Comments, Decisions, and Objections by Forest Supervisor, North Fork John Day District Ranger, Heppner District Ranger, Pomeroy District Ranger, and Walla Walla District Ranger are published in: “East Oregonian”, Pendleton, Oregon.

Umpqua National Forest

Notices for Comments, Decisions, and Objections by Forest Supervisor, Cottage Grove District Ranger, Diamond Lake District Ranger, North Umpqua District Ranger, Tiller District Ranger, and Dorena Genetic Resource Center Manager are published in: “The News-Review”, Roseburg, Oregon.

Wallowa-Whitman National Forest

Notices for Comments, Decisions, and Objections by Forest Supervisor, Whitman District Ranger are published in: “Baker City Herald”, Baker City, Oregon

Notices for Comments, Decisions, and Objections by La Grande District Ranger are published in: “The Observer”, La Grande, Oregon.

Notices for Comments, Decisions, and Objections by Hells Canyon National Recreation Area Manager, Eagle Cap District Ranger, and Wallowa Valley District Ranger are published in: “Wallowa County Chieftain”, Enterprise, Oregon.

Willamette National Forest

Notices for Comments, Decisions, and Objections by Forest Supervisor, Middle Fork District Ranger, McKenzie River District Ranger, and Sweet Home District Ranger are published in: “The Register-Guard”, Eugene, Oregon.

Notices for Comments, Decisions, and Objections by Detroit District Ranger are published in: “Statesman Journal”, Salem, Oregon.

Washington National Forests

Colville National Forest

Notices for Comments, Decisions, and Objections by Forest Supervisor and Three Rivers District Ranger are published in: “Statesman-Examiner”, Colville, Washington.

Notices for Comments, Decisions, and Objections by Tonasket Ranger District Ranger are published in: “The Omak-Okanogan County Chronicle”, Omack, WA.

Notices for Comments, Decisions, and Objections by Sullivan Lake District Ranger and Newport District Ranger are published in: “The Newport Miner”, Newport, Washington.

Notices for Comments, Decisions, and Objections by Republic District Ranger are published in: “Ferry County View”, Republic, Washington.

Gifford Pinchot National Forest

Notices for Comments, Decisions, and Objections by Forest Supervisor, Mount Adams District Ranger, and Mount St. Helens National Volcanic Monument Manager are published in: “The Columbian”, Vancouver, Washington.

Notices for Comments, Decisions, and Objections by Cowlitz Valley District Ranger are published in: “The Chronicle”, Chehalis, Washington.

Mt. Baker-Snoqualmie National Forest

Notices for Comments, Decisions, and Objections by Forest Supervisor, Darrington District Ranger, and Skykomish District Ranger are published in: “Everett Herald”, Everett, Washington.

Notices for Comments, Decisions, and Objections by Mt. Baker District Ranger are published in: “Skagit Valley Herald”, Mt. Vernon, Washington (south half of the district) and “Bellingham Herald”, Bellingham, Washington (north half of the district).

Notices for Comments, Decisions, and Objections by Snoqualmie District Ranger are published in: “Snoqualmie Valley Record”, North Bend, Washington (north half of district) and “Enumclaw Courier Herald”, Enumclaw, Washington (south half of district).

Okanogon-Wenatchee National Forests

Notices for Comments, Decisions, and Objections by Forest Supervisor, Chelan District Ranger, Entiat District Ranger, and Wenatchee River District Ranger are published in: “The Wenatchee World”, Wenatchee, Washington.

Notices for Comments, Decisions, and Objections by Naches District Ranger are published in: “Yakima Herald”, Yakima, Washington.

Notices for Comments, Decisions, and Objections by Methow Valley District Ranger are published in: “Methow Valley News”, Twisp, Washington.

Notices for Comments, Decisions, and Objections by Cle Elum District Ranger are published in: “Ellensburg Daily Record”, Ellensburg, Washington.

Olympic National Forest

Notices for Comments, Decisions, and Objections by Forest Supervisor are published in: “The Olympian”, Olympia, Washington.

Dated: March 9, 2023.
Troy Heithecker,
Associate Deputy Chief, National Forest System.

[FR Doc. 2023-05317 Filed 3-14-23; 8:45 am]

BILLING CODE 3411-15-P